DEPARTMENT OF HEALTH AND HUMAN SERVICES

National Institutes of Health

National Human Genome Research Institute; Notice of Meeting

Pursuant to section 10(d) of the Federal Advisory Committee Act, as amended, notice is hereby given of a meeting of the National Advisory Council for Human Genome Research.

The meeting will be open to the public as indicated below, the 91st meeting of the National Advisory Council for Human Genome Research open session will be livestreamed and available for viewing to the public on Genome.gov and across NHGRI social media platforms. The open session will be on September 14th and the start time will be 11:30 a.m.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Human Genome Research.

Date: September 14-15, 2020.

Closed: September 14, 2020, 10:00 a.m. to 11:00 a.m.

Agenda: To review and evaluate grant applications.

Place: National Human Genome Research Institute, National Institutes of Health, 6700-B Rockledge Drive, Suite 1100, Bethesda, MD 20892 (Virtual Meeting).

Open: September 14, 2020, 11:30 a.m. to 5:45 p.m.

Agenda: To discuss matters of program relevance.

Place: National Human Genome Research Institute, National Institutes of Health, 6700-B Rockledge Drive, Suite 1100, Bethesda, MD 20892 (Virtual Meeting).

Closed: September 15, 2020, 11:00 a.m. to Adjournment.

Agenda: To review and evaluate grant applications.

Place: National Human Genome Research Institute, National Institutes of Health, 6700-B Rockledge Drive, Suite 1100, Bethesda, MD 20892 (Virtual Meeting).

Contact Person: Rudy O. Pozzatti, Ph.D., Scientific Review Officer, Scientific Review Branch, National Human Genome Research Institute, National Institutes of Health, 6700-B Rockledge Drive, Suite 1100, Bethesda, MD 20892, (301) 402-0838, pozzattr@mail.nih.gov.

Any interested person may file written comments with the committee by forwarding the statement to the Contact Person listed on this notice no later than 15 days after the meeting. The statement should include the name, address, telephone number and when applicable, the business or professional affiliation of the interested person.

Information is also available on the Institute's/Center's home page: http://www.genome.gov/council, where an agenda and any additional information for the meeting will be posted when available.

(Catalogue of Federal Domestic Assistance Program Nos. 93.172, Human Genome Research, National Institutes of Health, HHS)

Dated: July 31, 2020.
Ronald J. Livingston, Jr.,
Program Analyst, Office of Federal Advisory Committee Policy.

[FR Doc. 2020-17101 Filed 8-4-20; 8:45 am]

BILLING CODE 4140-01-P